DEPARTMENT OF DEFENSE

Office of the Secretary

[Transmittal No. 20-39]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 20-39 with attached Policy Justification.

Dated: July 13, 2020.
Aaron T. Siegel,
Alternate OSD Federal Register Liaison Officer, Department of Defense.

BILLING CODE 5001-06-P

BILLING CODE 5001-06-C

Transmittal No. 20-39

Notice of Proposed Issuance of Letter of Offer Pursuant to Section 36(b)(1) of the Arms Export Control Act, as Amended

(i) Prospective Purchaser: Government of Ukraine.

(ii) Total Estimated Value:

Major Defense Equipment * | $ 0 million
Other | $600 million
Total | $600 million

(iii) Description and Quantity or Quantities of Articles or Services under Consideration for Purchase:

Major Defense Equipment (MDE):

None

Non-MDE:

Up to sixteen (16) Mark VI Patrol Boats; thirty-two (32) MSI Seahawk A2 gun systems; twenty (20) Electro-Optics-Infrared Radar (FLIR) (16 installed and 4 spares); sixteen (16) Long Range Acoustic Device (LRAD) 5km loudspeaker systems; sixteen (16) Identification Friend or Foe (IFF) systems; forty (40) MK44 cannons (32 installed and 8 spares); communication equipment; support equipment; spare and repair parts; tools and test equipment; technical data and publications; personnel training and training equipment; U.S. government and contractor engineering, technical, and logistics support services; and other related elements of logistics support.

(iv) Military Department: Navy (UP-P-SAD)

(v) Prior Related Cases, if any: None

(vi) Sales Commission, Fee, etc., Paid, Offered, or Agreed to be Paid: None.

(vii) Sensitivity of Technology Contained in the Defense Article or Defense Services Proposed to be Sold:

(viii) Date Report Delivered to Congress: June 17, 2020

* As defined in Section 47(6) of the Arms Export Control Act.

POLICY JUSTIFICATION

Ukraine—Mark VI Patrol Boats

The Government of Ukraine has requested to buy up to sixteen (16) Mark VI Patrol Boats; thirty-two (32) MSI Seahawk A2 gun systems; twenty (20) Electro-Optics-Infrared Radar (FLIR) (16 installed and 4 spares); sixteen (16) Long Range Acoustic Device (LRAD) 5km loudspeaker systems; sixteen (16) Identification Friend or Foe (IFF) systems; forty (40) MK44 cannons (32 installed and 8 spares); communication equipment; support equipment; spare and repair parts; tools and test equipment; technical data and publications; personnel training and training equipment; U.S. government and contractor engineering, technical, and logistics support services; and other related elements of logistics support. The estimated total cost is $600 million.

This proposed sale will support the foreign policy goals and national security objectives of the United States by improving the security of a partner country that is a force for political stability and economic progress in Europe.

The proposed sale will improve Ukraine's capability to meet current and future threats by providing a modern, fast, short-range vessel. Ukraine will utilize the vessels to better defend its territorial waters and protect other maritime interests. Ukraine will have no difficulty absorbing this equipment into its armed forces.

The proposed sale of this equipment and support will not alter the basic military balance in the region.

The prime contractor will be SAFE Boats International, Bremerton, WA. There are no known offset agreements proposed in conjunction with this potential sale.

Implementation of this proposed sale will not require the assignment of any additional U.S. Government or contractor representatives to Ukraine.

There will be no adverse impact on U.S. defense readiness as a result of this proposed sale.

[FR Doc. 2020-15512 Filed 7-16-20; 8:45 am]

BILLING CODE 5001-06-P